DEPARTMENT OF LABOR

Employment and Training Administration

[TA-W-40,492]

Coastal Lumber Company, Suffolk, VA; Notice of Negative Determination Regarding Application for Reconsideration

By application dated June 4, 2002, the company requested administrative reconsideration of the Department's negative determination regarding eligibility to apply for Trade Adjustment Assistance (TAA), applicable to workers and former workers of the subject firm. The denial notice was signed on May 6, 2002, and published in the Federal Register on May 17, 2002 (67 FR 35340).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of Coastal Lumber Company, located in Suffolk, Virginia was denied because the “contributed importantly” group eligibility requirement of Section 222(3) of the Trade Act of 1974, as amended, was not met. The “contributed importantly” test is generally demonstrated through a survey of customers of the workers' firm. The survey revealed that none of the respondents increased their imports of pine boards while decreasing their purchases from the subject firm during the relevant period.

The petitioner supplied statistics relating to softwood lumber imports for selected countries. The petitioner believes these countries are importing pine boards back to the United States and that the declines in the price of softwood lumber created a surge in imports of softwood lumber during the relevant period, thus impacting the subject plant workers and the softwood lumber industry.

A review of the data supplied by the petitioner depicts the trend in softwood lumber imports for selected countries during the relevant period. However, the softwood lumber statistics supplied by the petitioner is a broad (basket) category and is not specific enough with the products produced (pine board) by the subject plant and therefore not relevant. The Department conducted a survey, as already indicated, to examine the direct impact of pine board imports on the subject firm worker's during the relevant period. The survey revealed that customer imports did not contribute importantly to the layoffs at the subject plant during the relevant period.

Further, the price of imported softwood lumber is not a relevant factor in meeting the “contributed importantly” group eligibility requirement of Section 222(3) of the Trade Act of 1974, as amended.

Conclusion

After review of the application and investigative findings, I conclude that there has been no error or misinterpretation of the law or of the facts which would justify reconsideration of the Department of Labor's prior decision. Accordingly, the application is denied.

Signed at Washington, DC this 3rd day of July 2002.
Edward A. Tomchick,
Director, Division of Trade Adjustment Assistance.

[FR Doc. 02-18416 Filed 7-19-02; 8:45 am]

BILLING CODE 4510-30-P